DEPARTMENT OF HOMELAND SECURITY

Coast Guard

[Docket No. USCG-2008-0308]

Houston/Galveston Navigation Safety Advisory Committee; Meetings

AGENCY: Coast Guard, DHS.

ACTION: Notice of meetings.

SUMMARY: The Houston/Galveston Navigation Safety Advisory Committee (HOGANSAC) and its working groups will meet in Houston, Texas to discuss waterway improvements, aids to navigation, area projects impacting safety on the Houston Ship Channel, and various other navigation safety matters in the Galveston Bay area. These meetings will be open to the public.

DATES: The Committee will meet on Thursday, May 22, 2008 at 9 a.m. The meeting of the Committee's working groups will be held on Thursday May 8, 2008 at 9 a.m. These meetings may close early if all business is finished. Written material and requests to make oral presentations should reach the Coast Guard at least five (5) working days before the meeting. Requests to have a copy of your material distributed to each member of the committee or working group should reach the Coast Guard at least ten (10) working days before the meeting.

ADDRESSES: The full Committee meeting and working groups meetings will be held at the Houston Pilots Association, 8150 South Loop East, Houston, Texas 77011-1747, (713) 645-9620. Send written material and requests to make oral presentations to Captain William Diehl, Designated Federal Officer (DFO) of HOGANSAC, 9640 Clinton Drive, Houston, Texas 77029. This notice may be viewed in our online docket, USCG-2008-0308 at http://www.regulations.gov.

FOR FURTHER INFORMATION CONTACT: Commander Hal R. Pitts, Assistant to the DFO of HOGANSAC, telephone (713) 671-5164, e-mail hal.r.pitts@uscg.mil or Lieutenant Sean Hughes, telephone (713) 678-9001, e-mail sean.p.hughes@uscg.mil.

SUPPLEMENTARY INFORMATION: Notice of these meetings is given pursuant to the Federal Advisory Committee Act, 5 U.S.C. App. (Pub. L. 92-463).

Agendas of the Meetings

Houston/Galveston Navigation Safety Advisory Committee (HOGANSAC). The tentative agenda is as follows:

(1) Opening remarks by the Committee Sponsor (RADM Whitehead) or the Committee Sponsor's representative, DFO (CAPT Diehl) and Chairperson (Ms. Tava Foret).

(2) Approval of the 26 February 2008 minutes.

(3) Old Business:

(a) Navigation Operations (NAVOPS)/Maritime Incident

Review subcommittee report;

(b) Deep Draft Entry Facilitation (DDEF) subcommittee report;

(c) Dredging subcommittee report;

(d) Technology subcommittee report;

(e) Area Maritime Security Committee (AMSC) Liaison's report;

(f) Harbor of Safe Refuge subcommittee report;

(g) HOGANSAC Outreach report;

(h) Maritime Awareness subcommittee report.

(4) New Business:

Working Groups Meeting. The tentative agenda for the working groups meeting is as follows:

(1) Presentation by each working group of its accomplishments and plans for the future;

(2) Review and discuss the work completed by each working group;

(3) Put forth any action items for consideration at the full committee meeting.

Working groups have been formed to examine the following issues: Dredging and related issues, electronic navigation systems, aids to navigation (AtoN) knockdowns, impact of passing vessels on moored ships, boater education issues, facilitating deep draft movements, mooring infrastructure, and harbor of safe refuge. Not all working groups will provide a report at this session. Further, working group reports may not necessarily include discussions on all issues within the particular working group's area of responsibility.

Procedural: All meetings are open to the public. Please note that the meetings may close early if all business is finished. At the Chair's discretion, members of the public may make oral presentations during the meetings. If you would like to make an oral presentation at a meeting, please notify the Assistant DFO at least five (5) working days before the meeting. Written material for distribution at a meeting should reach the Coast Guard at least ten (10) working days before the meeting. If you would like a copy of your material distributed to each member of the committee or working group in advance of a meeting, please submit 19 copies to the DFO at least ten (10) working days before the meeting.

Information on Services for Individuals With Disabilities

For information on facilities or services for individuals with disabilities or to request special assistance at the meetings, contact the Assistant DFO as soon as possible.

Dated: April 15, 2008.
J.H. Korn,
Captain, U.S. Coast Guard, Commander, 8th Coast Guard District, Acting.

[FR Doc. E8-8859 Filed 4-23-08; 8:45 am]

BILLING CODE 4910-15-P